FEDERAL RESERVE SYSTEM

Agency Information Collection Activities: Announcement of Board Approval Under Delegated Authority and Submission to OMB

Summary: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Acting Federal Reserve Board Clearance Officer—Cynthia Ayouch—Division of Research and Statistics, Board of Governors of the Federal Reserve System, Washington, DC 20551 (202-452-3829).

OMB Desk Officer—Shagufta Ahmed—Office of Information and Regulatory Affairs, Office of Management and Budget, New Executive Office Building, Room 10235, Washington, DC 20503.

Final approval under OMB delegated authority of the extension for three years, without revision, of the following reports:

1. Report Title: Studies To Develop and Test Consumer Regulatory Disclosures.

Agency Form Number: FR 1380.

OMB Control Number: 7100-0312.

Frequency: Consumer surveys: qualitative testing, 4; quantitative testing, 4; Institution or Stakeholder surveys: qualitative survey, 50; quantitative survey, 2.

Reporters: Consumers, financial institutions, or stakeholders that engage in consumer lending and provide other financial products and services.

Estimated Annual Reporting Hours: 20,884 hours.

Estimated Average Hours per Response: Consumer surveys: qualitative testing, 2 hours; quantitative testing, 0.33 hours; and Institution or Stakeholder surveys: qualitative survey, 10 hours; quantitative survey, 15 hours.

Estimated Number of Respondents: Consumer surveys: qualitative testing, 225; quantitative testing, 1,200; and Institution or Stakeholder surveys: qualitative survey, 20; quantitative survey, 250.

General Description of Report: This information collection is authorized pursuant to the: Home Mortgage Act, Section 806 (12 U.S.C. 2804(a)); Community Reinvestment Act, Section 806 (12 U.S.C. 2905); Competitive Equality Banking Act, Section 1204 (12 U.S.C. 3806) (adjustable rate mortgage caps); Expedited Funds Availability Act, Section 609 (12 U.S.C. 4008); Truth in Saving Act, Section 269 (12 U.S.C. 4308); Federal Trade Commission Act, Section 18(f) (15 U.S.C. 57a(f)); Truth in Lending Act, Section 105 (15 U.S.C. 1604); Mortgage Disclosure Improvement Act, Sections 2501 through 2503 of the Housing and Economic Recovery Act of 2008 (15 U.S.C. 1638(b)(2)) (early disclosures for home refinance loans and home equity loans) Higher Education Opportunity Act of 2008, Section 1021(a) (15 U.S.C. 1638(e)(5)) (private student loan disclosures), Fair Credit Reporting Act, Section 621 (15 U.S.C. 1681s(e)); Equal Credit Opportunity Act, Section 703 (15 U.S.C. 1691b(a)); Electronic Funds Transfer Act, Section 904 (15 U.S.C. 1693b); and Gramm-Leach-Bliley Act, Section 504 (15 U.S.C. 6804. Respondent participation in the survey is voluntary. If the Federal Reserve contracts with an outside firm that retains the respondent identifying data and, pursuant to a contractual agreement, that data cannot be reported to the Federal Reserve, then the respondent identifying data cannot be considered an agency record and would not be subject to disclosure under the Freedom of Information Act (FOIA). However, if there is no contractual agreement between the Federal Reserve and an outside firm regarding the reporting of respondent identifying data, or if the Federal Reserve conducted the survey itself, the information could be considered an agency record subject to subsection (b)(6) of the FOIA. The confidentiality of the information obtained from financial institutions and other stakeholders will be determined on a case-by-case basis when the specific questions to be asked on each particular survey are formulated, but before respondents are contacted. Depending upon the survey questions, confidential treatment could be warranted under subsection (b)(4) of the FOIA. 5 U.S.C. 552(b)(4) and (6).

Abstract: The FR 1380 is used to gather qualitative and quantitative information directly from consumers (consumer studies), and also to gather qualitative and quantitative information from financial institutions offering consumer financial products and services and from other stakeholders, such as brokers, appraisers, settlement agents, software vendors, and consumer groups (stakeholder studies). This information collection is specifically targeted to the development of consumer regulations. The consumer studies gather information about individual consumers' knowledge of, and attitudes toward, consumer disclosures used by financial institutions in compliance with Federal Reserve regulations. The consumer studies may also enable the Federal Reserve to develop and test consumer education resources. The stakeholder studies gather information from the institutions offering financial products and services and other third parties regarding products, disclosure, marketing, advertising, and sales practices.

Current Actions: On March 30, 2009, the Federal Reserve published a notice in the Federal Register (74 FR 14126) requesting public comment for 60 days on the extension, without revision, of this information collection. The comment period for this notice expired on May 29, 2009. The Federal Reserve did not receive any comments.

2. Report Title: Recordkeeping Requirements Associated With the Interagency Statement on Complex Structured Finance Activities.

Agency Form Number: FR 4022.

OMB Control Number: 7100-0311.

Frequency: Annual.

Reporters: State member banks, bank holding companies, and U.S. branches and agencies of foreign banks supervised by the Federal Reserve.

Estimated Annual Reporting Hours: 230 hours.

Estimated Average Hours per Response: New respondents, 25 hours; existing respondents, 10 hours.

Estimated Number of Respondents: New respondents, 2; existing respondents, 18.

General Description of Report: This information collection is authorized pursuant to 12 U.S.C. 248(a), 248(i), 483, and 602, 12 U.S.C. 1844, and 12 U.S.C. 3108(a). Respondent participation in the statement is voluntary. However, the Federal Reserve expects to use the statement in reviewing the internal controls and risk management systems of those financial institutions engaged in complex structured finance transactions (CSFTs) as part of the Federal Reserve's supervisory process. Since the Federal Reserve does not collect any information, no issue of confidentiality normally arises. However, in the event records generated under the statement are obtained by the Board during an examination of a State member bank or U.S. branch or agency of a foreign bank, or during an inspection of a bank holding company, confidential treatment may be afforded to the records under exemption 8 of the Freedom of Information Act (FOIA), 5 U.S.C. 552(b)(8). FOIA exemption 8 exempts from disclosure matters that are contained in or related to examination, operating, or condition reports prepared by, on behalf of, or for the use of an agency responsible for the regulation or supervision of financial institutions.

Abstract: The Interagency Statement on Complex Structured Finance Activities provides that State member banks, bank holding companies, and U.S. branches and agencies of foreign banks supervised by the Federal Reserve should establish and maintain policies and procedures for identifying, evaluating, assessing, documenting, and controlling risks associated with certain CSFTs.

A financial institution engaged in CSFTs should maintain a set of formal, firm-wide policies and procedures that are designed to allow the institution to identify, evaluate, assess, document, and control the full range of credit, market, operational, legal, and reputational risks associated with these transactions. These policies may be developed specifically for CSFTs, or included in the set of broader policies governing the institution generally. A financial institution operating in foreign jurisdictions may tailor its policies and procedures as appropriate to account for, and comply with, the applicable laws, regulations and standards of those jurisdictions.

A financial institution's policies and procedures should establish a clear framework for the review and approval of individual CSFTs. These policies and procedures should set forth the responsibilities of the personnel involved in the origination, structuring, trading, review, approval, documentation, verification, and execution of CSFTs. A financial institution should define what constitutes a new complex structured finance product and establish a control process for the approval of such new products. An institution's policies also should provide for new complex structured finance products to receive the approval of all relevant control areas that are independent of the profit center before the product is offered to customers.

Current Actions: On April 2, 2009, the Federal Reserve published a notice in the Federal Register (74 FR 14988) requesting public comment for 60 days on the extension, without revision, of this information collection. The comment period for this notice expired on June 1, 2009. The Federal Reserve did not receive any comments.

Final approval under OMB delegated authority of the implementation of the following report:

Report Title: Microeconomic Survey.

Agency Form Number: FR 3051.

OMB Control Number: 7100-0321.

Frequency: Annually and monthly, as needed.

Reporters: Individuals, households, and financial and non-financial businesses.

Estimated Annual Reporting Hours: Annual, 6,000 hours; Monthly, 18,000 hours.

Estimated Average Hours per Response: Annual, 30 minutes; Monthly, 60 minutes.

Estimated Number of Respondents: Annual, 6,000; Monthly, 3,000.

General Description of Report: This information collection is voluntary (12 U.S.C. 225A and 263). Generally, when the survey or study is conducted by an outside firm, names or other such directly identifying characteristics would not be reported to the Federal Reserve. In circumstances where identifying information is provided to the Federal Reserve, such information could possibly be protected from Freedom of Information Act disclosure by FOIA exemptions 4 and 6 (5 U.S.C. 552(b)(4) and (6)).

The Federal Reserve Board's Microeconomic Surveys section in the Division of Research and Statistics is an official statistical unit, as defined under the Confidential Information Protection and Statistical Efficiency Act (CIPSEA) of 2002 (44 U.S.C. 3501). When information is collected by a private contractor under the oversight of that section, there are stringent requirements for protecting the data and respondents may be given a legally binding pledge of confidentiality. The pledge would disallow any use of the data for a non-statistical purpose.¹ When the Federal Reserve collects data directly (that is, without the use of a private data collection company or other such agent), respondents may also be offered such a pledge if the data are intended for a statistical purpose.

¹ “Non-statistical” is defined precisely in CIPSEA. Loosely, an information collection undertaken for a non-statistical purpose would be one intended to support a regulatory action or other action specifically targeted to the entity on which data were collected.

Abstract: The Federal Reserve would use this event-driven survey to obtain information specifically tailored to the Federal Reserve's supervisory, regulatory, operational, and other responsibilities. The Federal Reserve proposes to conduct the FR 3051 up to 13 times per year (including one survey on an annual basis and another on a monthly basis). The frequency and content of the questions would depend on changing economic, regulatory, or legislative developments.

Current Actions: On March 30, 2009, the Federal Reserve published a notice in the Federal Register (74 FR 14126) requesting public comment for 60 days on the implementation of the Microeconomic Survey. The comment period for this notice expired on May 29, 2009. The Federal Reserve did not receive any comments; the survey will be implemented as proposed.

Board of Governors of the Federal Reserve System, June 4, 2009.
Jennifer J. Johnson,
Secretary of the Board.

[FR Doc. E9-13412 Filed 6-8-09; 8:45 am]

BILLING CODE 6210-01-P